NUCLEAR REGULATORY COMMISSION

10 CFR Part 110

RIN 3150-AH89

Revision of NRC Form 7, Application for NRC Export/Import License, Amendment, or Renewal

AGENCY: Nuclear Regulatory Commission.

ACTION: Direct final rule: Confirmation of effective date.

SUMMARY: The Nuclear Regulatory Commission (NRC) is confirming the effective date of June 27, 2006, for the direct final rule that appeared in the Federal Register of April 13, 2006 (71 FR 19102). This direct final rule amended the NRC's regulations that govern the export and import of nuclear material and equipment concerning the use of NRC Form 7, “Application for NRC Export/Import License, Amendment, or Renewal.” Recently, the Commission revised NRC Form 7 to consolidate all license requests (i.e., applications for export, import, combined export/import, amendments and renewals) in one application form. Previously, NRC Form 7 was used only for applications for export of nuclear material and equipment. Import license applications, and production or utilization facility export applications, and license amendment and renewal applications were filed by letter. As a result of the revision, these requests, previously made by letter, now will be made using NRC Form 7. The purpose of this rule change is to amend the regulations that govern export and import of nuclear material and equipment to reflect the consolidation of all license requests in one application, NRC Form 7, as revised. This document confirms the effective date.

DATES: The effective date of June 27, 2006, is confirmed by this direct final rule.

ADDRESSES: Documents related to this rulemaking may be examined at the NRC Public Document Room, 11555 Rockville Pike, Rockville, MD. These same documents may also be viewed and downloaded electronically via the rulemaking Web site (http://ruleforum.llnl.gov). For information about the interactive rulemaking Web site, contact Ms. Carol Gallagher (301) 415-5905; e-mail CAG@nrc.gov.

FOR FURTHER INFORMATION CONTACT: Brooke G. Smith, International Policy Analyst, Office of International Programs, U.S. Nuclear Regulatory Commission, Washington, DC 20555-0001, telephone (301) 415-2490, e-mail bgs@nrc.gov.

SUPPLEMENTARY INFORMATION: On April 13, 2006 (71 FR 19102), the NRC published in the Federal Register a direct final rule amending its regulations in 10 CFR part 110 concerning the use of NRC Form 7, “Application for NRC Export/Import License, Amendment, or Renewal.” Recently, the Commission revised NRC Form 7 to consolidate all license requests (i.e., applications for export, import, combined export/import, amendments and renewals) in one application form. Previously, NRC Form 7 was used only for applications for export of nuclear material and equipment. Import license applications, and production or utilization facility export applications, and license amendment and renewal applications were filed by letter. As a result of the revision, these requests, previously made by letter, now will be made using NRC Form 7. The purpose of this rule change is to amend the regulations that govern export and import of nuclear material and equipment to reflect the consolidation of all license requests in one application, NRC Form 7, as revised. In the direct final rule, the NRC stated that if no significant adverse comments were received, the direct final rule would become final on the date noted above. The NRC did not receive any comments. Therefore, this rule is effective as scheduled.

Dated at Rockville, Maryland, this 19th day of June, 2006.
For the Nuclear Regulatory Commission.
Michael T. Lesar,
Chief, Rules and Directives Branch, Division of Administrative Services, Office of Administration.

[FR Doc. E6-9922 Filed 6-22-06; 8:45 am]

BILLING CODE 7590-01-P